DEPARTMENT OF THE INTERIOR

Bureau of Land Management

[ID-200-1120-PH]

Resource Advisory Council Meeting

AGENCY: Bureau of Land Management, Interior.

ACTION: Notice of February Resource Advisory Council Meeting to be Held in Twin Falls District, Idaho.

SUMMARY: This notice announces the intent to hold a Resource Advisory Council (RAC) meeting in the Twin Falls District of Idaho on Tuesday, February 27, 2007. The meeting will be held at the Shilo Inn, 1586 Blue Lakes Boulevard, in Twin Falls, Idaho.

SUPPLEMENTARY INFORMATION: The Twin Falls District Resource Advisory Council consists of the standard fifteen members residing throughout south central Idaho. Meeting agenda items will include updates on the Jarbidge Field Office RMP effort, recreation fee efforts in partnership with the Forest Service and more.

FOR FURTHER INFORMATION CONTACT: Sky Buffat, Twin Falls District, Idaho, 400 West F Street, Shoshone, Idaho 83352, (208) 732-7307.

Dated: January 18, 2007.
Howard Hedrick,
Twin Falls District Manager.

[FR Doc. E7-1223 Filed 1-25-07; 8:45 am]

BILLING CODE 4310-GG-P